DEPARTMENT OF COMMERCE

National Oceanic and Atmospheric Administration

50 CFR Part 679

[Docket No. 0612242903-7445-03; I.D. 112006I]

RIN 0648-AU48

Fisheries of the Exclusive Economic Zone Off Alaska; Pacific Cod Allocations in the Bering Sea and Aleutian Islands Management Area; Correction

AGENCY: National Marine Fisheries Service (NMFS), National Oceanic and Atmospheric Administration (NOAA), Commerce.

ACTION: Final rule; correction.

SUMMARY: NMFS is correcting a final rule that appeared in the Federal Register on September 4, 2007. The final rule implemented Amendment 85 to the Fishery Management Plan for Groundfish of the Bering Sea and Aleutian Islands Management Area (FMP) as partially approved by NMFS, and implemented recent changes to the Magnuson-Stevens Fishery Conservation and Management Act (Magnuson-Stevens Act). Amendment 85 modified the current allocations of Bering Sea and Aleutian Islands Management Area (BSAI) Pacific cod total allowable catch, and seasonal apportionments thereof, among various harvest sectors. The final rule also included the congressionally mandated increase in the allocation of BSAI Pacific cod to the Community Development Quota (CDQ) Program.

DATES: Effective January 1, 2008.

FOR FURTHER INFORMATION CONTACT: Becky Carls, 907-586-7228 or becky.carls@noaa.gov.

SUPPLEMENTARY INFORMATION:

Background

A final rule published on September 4, 2007 (72 FR 50788), implemented Amendment 85 to the FMP by modifying the current allocations of BSAI Pacific cod total allowable catch (TAC) among various harvest sectors and seasonal apportionments thereof. The rule also established a hierarchy for reallocating projected unharvested amounts of Pacific cod from certain sectors to other sectors, revised catcher/processor (CP) sector definitions, modified the management of Pacific cod incidental catch that occurs in other groundfish fisheries, eliminated the Pacific cod nonspecified reserve, subdivided the annual prohibited species catch (PSC) limits currently apportioned to the Pacific cod hook-and-line gear fisheries between the catcher vessel and CP sectors, and modified the sideboard restrictions for American Fisheries Act (AFA) CP vessels. In addition, the rule increased the percentage of the BSAI Pacific cod TAC apportioned to the CDQ Program. That final rule is effective January 1, 2008.

After publishing the final rule to implement Amendment 85, NMFS published a separate final rule to implement Amendment 80 to the FMP on September 14, 2007 (72 FR 52668). Amendment 80 primarily allocated several BSAI non-pollock trawl groundfish fisheries among fishing sectors, facilitated the formation of harvesting cooperatives in the non-AFA trawl CP sector, and established a limited access privilege program for that sector. Most provisions of the Amendment 80 final rule were effective October 15, 2007.

Need for Corrections

Among other regulatory changes, the final rules implementing Amendment 80 and Amendment 85 modified current regulations under § 679.21(e) that concern PSC bycatch management. The regulatory changes made by the Amendment 85 final rule included a rearrangement of portions of § 679.21(e) to improve the organization of the regulations. The proposed rule for Amendment 85 published on February 7, 2007 (72 FR 5654), explained some of this reorganization on page 5668: “The information in § 679.21(e)(1)(i) and (e)(2)(ii), concerning the reserves in the BSAI for the CDQ Program, would be moved to § 679.21(e)(3)(i)(A) and (e)(4)(i)(A) respectively. This regulatory text would be moved from the paragraphs allocating PSC by species, to the more appropriate location under the paragraphs making PSC apportionments to the various fishery categories.” However, because Amendment 85 has a later effective date than Amendment 80, an unintended result of this reorganization is that some regulatory changes made by the Amendment 85 final rule will overwrite some regulatory changes made by the Amendment 80 final rule. Specifically, the final rule for Amendment 85 as published will remove regulatory text allocating prohibited species quota to CDQ groups, a reference to PSC cooperative quota assigned to Amendment 80 cooperatives, and paragraphs concerning Amendment 80 sector bycatch limitations.

The preservation of the new regulatory text approved under Amendment 80 in light of the non-substantive reorganization intended by Amendment 85 is the goal of this correction notice. In other words, the intent of the regulatory reorganization made by Amendment 85 was not to change the substance of existing regulations but to move and consolidate several existing regulatory provisions. Therefore, two paragraphs in the Amendment 85 final rule will be corrected to reflect new regulatory language approved under Amendment 80 and an instruction for § 679.21 will be inserted. First, the new regulatory text at § 679.21(e)(1)(i) resulting from Amendment 80 will become § 679.21(e)(3)(i)(A) under this action, with changes made to reflect the new cross-references. Second, the new regulatory text at § 679.21(e)(3)(i) resulting from Amendment 80 will become § 679.21(e)(3)(i)(B) under this action, with a heading added to the paragraph. Last, an instruction will be inserted to prevent the deletion of a new paragraph added at § 679.21(e)(3)(vi) by the Amendment 80 final rule.

Classification

Pursuant to 5 U.S.C. 553(b)(B), the Assistant Administrator of Fisheries finds good cause to waive prior notice and opportunity for public comment otherwise required by the section. NOAA finds that prior notice and opportunity for public comment are unnecessary because the editorial changes made by this rule are non-substantive. Neither Amendment 85 nor Amendment 80 intended to remove regulations allocating a portion of the trawl gear PSC limits to the CDQ Program. This action will preserve regulatory language approved in the Amendment 80 final rule when the regulations approved under the Amendment 85 final rule become effective.

Because prior notice and opportunity for public comment are not required for this rule by 5 U.S.C. 553, or any other law, the analytical requirements of the Regulatory Flexibility Act, 5 U.S.C. 601 et seq., are inapplicable.

Correction

Accordingly, the final rule, FR Doc. E7-17140, published on September 4, 2007, at 72 FR 50788, to be effective January 1, 2008, is corrected as follows:

§ 679.21 [Corrected]

1. In § 679.21, on page 50817, columns 1 and 2, revise paragraphs (e)(3)(i)(A) and (B) to read as set forth below and in column 2, add five asterisks in between paragraphs (e)(3)(v) and (e)(4) to account for text not being amended.

§ 679.21 Prohibited species bycatch arrangement.

* * * * *

(e) * * *

(3) * * *

(i) * * *

(A) PSQ reserve. The following allocations of the trawl gear PSC limits are made to the CDQ Program as PSQ reserves. The PSQ reserves are not apportioned by gear or fishery.

(1) Crab PSQ. 10.7 percent of each PSC limit set forth in paragraphs (e)(1)(i) through (iii) of this section.

(2) Halibut PSQ. (i) 276 mt of the total PSC limit set forth in paragraph (e)(1)(iv) of this section in each year for 2008 and 2009.

(ii) 326 mt of the total PSC limit set forth in paragraph (e)(1)(iv) of this section effective in 2010 and each year thereafter.

(3) Salmon PSQ—(i) Chinook salmon. 7.5 percent of the PSC limit set forth in paragraph (e)(1)(vi) of this section.

(ii) Non-Chinook salmon. 10.7 percent of the PSC limit set forth in paragraph (e)(1)(vii) of this section.

(B) Fishery categories. NMFS, after consultation with the Council and after subtraction of PSQ reserves and PSC CQ assigned to Amendment 80 cooperatives, will apportion each PSC limit set forth in paragraphs (e)(1)(i) through (vii) of this section into bycatch allowances for fishery categories defined in paragraph (e)(3)(iv) of this section, based on each category's proportional share of the anticipated incidental catch during a fishing year of prohibited species for which a PSC limit is specified and the need to optimize the amount of total groundfish harvested under established PSC limits.

* * * * *

Dated: October 19, 2007.
Samuel D. Rauch III,
Deputy Assistant Administrator For Regulatory Programs, National Marine Fisheries Service.

[FR Doc. E7-20929 Filed 10-23-07; 8:45 am]

BILLING CODE 3510-22-S